DEPARTMENT OF VETERANS AFFAIRS

Increase in Maximum Tuition and Fee Amounts Payable Under the Post-9/11 GI Bill

AGENCY: Department of Veterans Affairs.

ACTION: Notice.

SUMMARY: The purpose of this notice is to inform the public of the increase in the Post-9/11 GI Bill maximum tuition and fee amounts payable and the increase in the amount used to determine an individual's entitlement charge for reimbursement of a licensing, certification, or national test for the 2019-2020 academic year.

FOR FURTHER INFORMATION CONTACT: Rodney Hopkins, Management and Program Analyst, Education Service (225C), Veterans Benefits Administration, Department of Veterans Affairs, 810 Vermont Avenue NW, Washington, DC 20420, Telephone: (202) 461-9800. (This is not a toll-free number).

SUPPLEMENTARY INFORMATION: For the 2019-2020 academic year, the Post-9/11 GI Bill allows VA to pay the actual net cost of tuition and fees not to exceed the in-state amounts for students pursuing training at public schools; $24,476.79 for student training at private and foreign schools; $13,986.72 for student training at vocational flight schools; and $11,888.70 for student training at correspondence schools. In addition, the entitlement charge for individuals receiving reimbursement of the costs associated with taking a licensing, certification, or national test will be pro-rated based on the actual amount of the fee charged for the test relative to the rate of $2,042.06 for one month. The maximum reimbursable amount for a licensing or certification test will be $2000. There will be no maximum reimbursable amount for national tests.

Sections 3313, 3315, and 3315A of title 38, United States Code, direct VA to increase the maximum tuition and fee payments and entitlement-charge amounts each academic year (beginning on August 1st) based on the most recent percentage increase determined under 38 U.S.C. 3015(h). The most recent percentage increase determined under 38 U.S.C. 3015(h) was 3.4 percent, which was effective on October 1, 2018.

The maximum tuition and fee payments and entitlement charge amounts for training pursued under the Post-9/11 GI Bill beginning after July 31, 2019, and before August 1, 2020 are listed below. VA's calculations for the 2019-2020 academic year are based on the 3.4 percent increase.

2019-2020 Academic Year
Type of school | Actual net cost of tuition and fees not to exceed
Post-9/11 GI Bill Maximum Tuition and Fee Amounts
PUBLIC | In-State/Resident Charges.
PRIVATE/FOREIGN | $24,476.79.
VOCATIONAL FLIGHT | $13,986.72.
CORRESPONDENCE | $11,888.70.
Post-9/11 Entitlement Charge Amount for Tests
LICENSING AND CERTIFICATION TESTS | Entitlement will be pro-rated based on the actual amount of the fee charged for the test relative to the rate of $2,042.06 for one month. The maximum reimbursable amount for a licensing or certification test is $2000.
NATIONAL TESTS | Entitlement will be pro-rated based on the actual amount of the fee charged for the test relative to the rate of $2,042.06 for one month. There is no maximum reimbursable amount for national tests.

Signing Authority

The Secretary of Veterans Affairs, or designee, approved this document and authorized the undersigned to sign and submit the document to the Office of the Federal Register for publication electronically as an official document of the Department of Veterans Affairs. Robert L. Wilkie, Secretary, Department of Veterans Affairs, approved this document on April 3, 2019, for publication.

Dated: April 4, 2019.
Luvenia Potts,
Program Specialist, Office of Regulation Policy & Management, Office of the Secretary, Department of Veterans Affairs.

[FR Doc. 2019-06978 Filed 4-8-19; 8:45 am]

BILLING CODE 8320-01-P